ENVIRONMENTAL PROTECTION AGENCY

[EPA-HQ-OPP-2022-0624; FRL-10416-01-OCSPP]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period July 1, 2022, to September 30, 2022, to control unforeseen pest outbreaks.

FOR FURTHER INFORMATION CONTACT: Daniel Rosenblatt, Registration Division (7505T), Office of Pesticide Programs, Environmental Protection Agency, 1200 Pennsylvania Ave. NW, Washington, DC 20460-0001; main telephone number: (202) 566-1030; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption.

B. How can I get copies of this document and other related information?

The docket for this action, identified by docket identification (ID) number EPA-HQ-OPP-2022-0624, is available at https://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room and the OPP Docket is (202) 566-1744. Please review the visitor instructions and additional information about the docket available at https://www.epa.gov/dockets.

II. Background

EPA has granted emergency exemptions to the following State and Federal agencies. The emergency exemptions may take the following form: Crisis, public health, quarantine, or specific.

Under FIFRA section 18 (7 U.S.C. 136p), EPA can authorize the use of a pesticide when emergency conditions exist. Authorizations (commonly called emergency exemptions) are granted to State and Federal agencies and are of four types:

1. A “specific exemption” authorizes use of a pesticide against specific pests for a specific crop/site on a limited acreage, or other unit for treatment (e.g., square footage, cartons of produce in a particular State. Most emergency exemptions are specific exemptions.

2. “Quarantine” and “public health” exemptions are emergency exemptions issued for quarantine or public health purposes. These are requested less frequently than specific exemptions.

3. A “crisis exemption” is initiated by a State or Federal agency (and is concurred upon by EPA) when there is insufficient time to request and obtain EPA permission for emergency use of a pesticide under one of the other types of emergency exemptions.

EPA may deny an emergency exemption request: If the State or Federal agency cannot demonstrate that an emergency exists, if the use poses unacceptable risks to the environment, or if EPA cannot reach a conclusion that the proposed pesticide use is likely to result in “a reasonable certainty of no harm” to human health, including exposure of infants and children to residues of the pesticide.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized, the pests, the crop or use for which authorized, number of acres or other unit for treatment (if applicable), and the effective date of the exemption. EPA also gives the Federal Register citation for the time-limited tolerance, if any, and notes when a Notice of Receipt (if required under 40 CFR 166.24) was published in the Federal Register.

III. Emergency Exemptions

A. U.S. States and Territories

Arkansas

Department of Agriculture

Specific exemption: EPA authorized the use of thiamethoxam on a maximum of 450,000 acres of rice to control rice stink bug. Time-limited tolerances in connection with a previous action support this emergency use and are established in 40 CFR 180.565(b). The authorization was effective July 27, 2022.

Florida

Department of Agriculture and Consumer Services

Specific exemption: EPA authorized the use of clothianidin on a maximum of 125,376 acres of immature (3 to 5 years old) citrus trees to manage the transmission of Huanglongbing (HLB) disease vectored by the Asian citrus psyllid. A time-limited tolerance in connection with this action supports this emergency use and is established in 40 CFR 180.586(b). The authorization was effective September 28, 2022.

Louisiana

Department of Agriculture and Forestry

Quarantine exemption: EPA authorized the use of fipronil to control an invasive crazy ant species (commonly referred to as the Tawny Crazy Ant) around the outside of manmade structures, in parishes where the ant has been confirmed. The authorization was effective September 27, 2022.

Michigan

Department of Agriculture and Rural Development

Quarantine exemption: EPA authorized the use of pyrethrins and piperonyl butoxide to eradicate Red Swamp Crayfish on a maximum 6.98 acres across sixteen ponds in Southeast Michigan. This is a non-food/non-feed use and the authorization was effective August 24, 2022.

Mississippi

Department of Agriculture and Commerce

Specific exemption: EPA authorized the use of thiamethoxam on a maximum of 50,000 acres of rice to control rice stink bug. Time-limited tolerances in connection with a previous action support this emergency use and are established in 40 CFR 180.565(b). The authorization was effective July 28, 2022.

Quarantine exemption: EPA authorized the use of fipronil to control an invasive crazy ant species (commonly referred to as the Tawny Crazy Ant) around the outside of manmade structures, in parishes where the ant has been confirmed. The authorization was effective September 27, 2022.

Missouri

Department of Agriculture

Specific exemption: EPA authorized the use of thiamethoxam on a maximum of 45,000 acres of rice to control rice stink bug. Time-limited tolerances in connection with a previous action support this emergency use and are established in 40 CFR 180.565(b). The authorization was effective August 12, 2022.

Texas

Department of Agriculture

Quarantine exemption: EPA authorized the use of fipronil to control an invasive crazy ant species (commonly referred to as the Tawny Crazy Ant) around the outside of manmade structures, in parishes where the ant has been confirmed. The authorization was effective September 27, 2022.

B. Federal Departments and Agencies

United States Department of Agriculture

Animal and Plant Health Inspection Service

Quarantine Exemption: EPA authorized the use of acetic acid (vinegar) on hard nonporous surfaces to control African swine fever virus. The authorization was effective September 9, 2022.

Authority: 7 U.S.C. 136 et seq.

Dated: November 28, 2022.
Daniel Rosenblatt,
Acting Director, Registration Division, Office of Pesticide Programs.

[FR Doc. 2022-26249 Filed 12-1-22; 8:45 am]

BILLING CODE 6560-50-P